DEPARTMENT OF COMMERCE

International Trade Administration

[A-428-821, A-588-837]

Large Newspaper Printing Presses, and Components Thereof, from Germany and Japan; Notice of Extension of Time Limits for Antidumping Duty Administrative Reviews

AGENCY: Import Administration, International Trade Administration, Department of Commerce.

SUMMARY: The Department of Commerce is extending the time limits of the preliminary results of the antidumping duty administrative reviews on large newspaper printing presses, and components thereof, from Germany and Japan. Each review covers one producer/exporter of the subject merchandise to the United States. The period of review is September 1, 1999, through August 31, 2000. This period also covers certain sales deferred from prior review periods.

EFFECTIVE DATE: March 22, 2001.

FOR FURTHER INFORMATION CONTACT: Katherine Johnson at (202) 482-4929 for Germany, or Christopher Priddy at (202) 482-1130, for Japan, Office of AD/CVD Enforcement, Import Administration, International Trade Administration, U.S. Department of Commerce, 14th Street and Constitution Avenue, NW., Washington, DC 20230.

SUPPLEMENTARY INFORMATION: Because it is not practicable to complete these administrative reviews within the time limits mandated by section 751(a)(3)(A) of Tariff Act of 1930 (the Act), as amended by the Uruguay Round Agreements Act, the Department is extending the time limit for completion of the preliminary results. Each of these reviews involves complicated issues related to cost of production. In addition, we are required to verify the information submitted in the Japanese review in accordance with 19 CFR 351.307(iii) and (v). Because we need additional time to analyze the respondents' data, as well as to conduct verification, we have extended the deadline for the completion of the preliminary results until October 1, 2001.

This extension is in accordance with section 751(a)(3)(A) of the Act (19 U.S.C. 1675(a)(3)(A)) and 19 CFR 351.213(h)(2).

Dated: March 13, 2001.
Richard W. Moreland,
Deputy Assistant Secretary for Import Administration.

[FR Doc. 01-7142 Filed 3-21-01; 8:45 am]

BILLING CODE 3510-DS-P